SUSQUEHANNA RIVER BASIN COMMISSION

Notice of Projects Approved or Rescinded for Consumptive Uses of Water

AGENCY: Susquehanna River Basin Commission.

ACTION: Notice of Approved or Rescinded Projects.

SUMMARY: This notice lists the projects approved or rescinded by rule by the Susquehanna River Basin Commission during the period set forth in DATES.

DATES: November 1, 2010, through December 31, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval or rescission for the consumptive use of water pursuant to the Commission's approval by rule process set forth in 18 CFR 806.22(e) and 18 CFR 806.22(f) for the time period specified above:

Approvals by Rule Issued Under 18 CFR 806.22(e)

1. Empire Pipeline, Inc.—Tioga County Extension Project, ABR-201011050, Jackson Township, Tioga County, Pa.; Town of Canton and Town of Corning, Steuben County, N.Y.; Consumptive Use of up to 0.300 mgd; Approval Date: November 18, 2010.

2. SVC Manufacturing, Inc., Gatorade—Mountaintop Facility, ABR-201012042, Wright Township, Luzerne County, Pa.; Consumptive Use of up to 1.300 mgd; Approval Date: December 20, 2010.

Approvals by Rule Issued Under 18 CFR 806.22(f)

1. Novus Operating, LLC, Pad ID: Sylvester 4H Pad, ABR-201011001, Brookfield Township, Tioga County, Pa.; Consumptive Use of up to 2.000 mgd; Approval Date: November 1, 2010.

2. East Resources Management, LLC, Pad ID: Guillaume 715, ABR-201011002, Liberty Township, Tioga County, Pa.; Consumptive Use of up to 4.000 mgd; Approval Date: November 1, 2010.

3. Chesapeake Appalachia, LLC, Pad ID: Sparky, ABR-201011003, Sheshequin Township, Bradford County, Pa.; Consumptive Use of up to 7.500 mgd; Approval Date: November 1, 2010.

4. Chesapeake Appalachia, LLC, Pad ID: Gregory, ABR-201011004, Wysox Township, Bradford County, Pa.; Consumptive Use of up to 7.500 mgd; Approval Date: November 1, 2010.

5. Chief Oil & Gas LLC, Pad ID: Vollers Drilling Pad #1, ABR-201011005, Elkland Township, Sullivan County, Pa.; Consumptive Use of up to 2.000 mgd; Approval Date: November 1, 2010.

6. Enerplus Resources (USA) Corporation, Pad ID: Snow Shoe 1, ABR-201011006, Snow Shoe Township, Centre County, Pa.; Consumptive Use of up to 4.000 mgd; Approval Date: November 1, 2010.

7. Enerplus Resources (USA) Corporation, Pad ID: Snow Shoe 2, ABR-201011007, Snow Shoe Township, Centre County, Pa.; Consumptive Use of up to 4.000 mgd; Approval Date: November 1, 2010.

8. Chesapeake Appalachia, LLC, Pad ID: Norton, ABR-201011008, Elkland Township, Sullivan County, Pa.; Consumptive Use of up to 7.500 mgd; Approval Date: November 2, 2010.

9. Chesapeake Appalachia, LLC, Pad ID: Crystal, ABR-201011009, North Towanda Township, Bradford County, Pa.; Consumptive Use of up to 7.500 mgd; Approval Date: November 2, 2010.

10. Chesapeake Appalachia, LLC, Pad ID: Weisbrod, ABR-201011010, Sheshequin Township, Bradford County, Pa.; Consumptive Use of up to 7.500 mgd; Approval Date: November 3, 2010.

11. Chesapeake Appalachia, LLC, Pad ID: Dland, ABR-201011011, Leroy Township, Bradford County, Pa.; Consumptive Use of up to 7.500 mgd; Approval Date: November 3, 2010.

12. Williams Production Appalachia LLC, Pad ID: Resource Recovery Well Pad 2, ABR-201011012, Snow Shoe Township, Centre County, Pa.; Consumptive Use of up to 4.000 mgd; Approval Date: November 3, 2010.

13. Chesapeake Appalachia, LLC, Pad ID: M&M Estates, ABR-201011013, Fox Township, Sullivan County, Pa.; Consumptive Use of up to 7.500 mgd; Approval Date: November 4, 2010.

14. Southwestern Energy Production Company, Pad ID: Wells Pad, ABR-201011014, Benton Township, Lackawanna County, Pa.; Consumptive Use of up to 4.990 mgd; Approval Date: November 5, 2010.

15. Southwestern Energy Production Company, Pad ID: Belcher Pad, ABR-201011015, Clifford Township, Susquehanna County, Pa.; Consumptive Use of up to 4.990 mgd; Approval Date: November 5, 2010.

16. EnCana Oil & Gas (USA) Inc., Pad ID: 4P, ABR-201011016, Lake Township, Luzerne County, Pa.; Consumptive Use of up to 1.200 mgd; Approval Date: November 8, 2010.

17. Anadarko E&P Company LP, Pad ID: David G Wascher Pad A, ABR-201011017, Lewis Township, Lycoming County, Pa.; Consumptive Use of up to 3.000 mgd; Approval Date: November 8, 2010.

18. XTO Energy Incorporated, Pad ID: Levan 8532H, ABR-201011018, Pine Township, Columbia County, Pa.; Consumptive Use of up to 4.000 mgd; Approval Date: November 8, 2010.

19. XTO Energy Incorporated, Pad ID: Shaner8507H, ABR-201011019, Jordan Township, Lycoming County, Pa.; Consumptive Use of up to 4.000 mgd; Approval Date: November 8, 2010.

20. XTO Energy Incorporated, Pad ID: Renn8506H, ABR-201011020, Jordan Township, Lycoming County, Pa.; Consumptive Use of up to 4.000 mgd; Approval Date: November 8, 2010.

21. Williams Production Appalachia LLC, Pad ID: Webster—1, ABR-2009401.1, Franklin Township, Susquehanna County, Pa.; Consumptive Use of up to 4.000 mgd; Approval Date: November 9, 2010.

22. Williams Production Appalachia LLC, Pad ID: Holbrook # 1, ABR-2009402.1, Bridgewater Township, Susquehanna County, Pa.; Consumptive Use of up to 4.000 mgd; Approval Date: November 9, 2010.

23. Chesapeake Appalachia, LLC, Pad ID: Zaleski, ABR-201011021, Asylum Township, Bradford County, Pa.; Consumptive Use of up to 7.500 mgd; Approval Date: November 9, 2010.

24. Carrizo Marcellus, LLC, Pad ID: Shaskas South, ABR-201011022, Jessup Township, Susquehanna County, Pa.; Consumptive Use of up to 2.100 mgd; Approval Date: November 10, 2010.

25. Carrizo Marcellus, LLC, Pad ID: Bonnice 2, ABR-201011023, Jessup Township, Susquehanna County, Pa.; Consumptive Use of up to 2.100 mgd; Approval Date: November 10, 2010.

26. EOG Resources, Inc. Pad ID: SGL 90C Pad, ABR-2010011024, Lawrence Township, Clearfield County, Pa.; Consumptive Use of up to 4.999 mgd; Approval Date: November 10, 2010.

27. EOG Resources, Inc. Pad ID: SGL 90E Pad, ABR-2010011025, Lawrence Township, Clearfield County, Pa.; Consumptive Use of up to 4.999 mgd; Approval Date: November 10, 2010.

28. EOG Resources, Inc. Pad ID: SGL 90F Pad, ABR-2010011026, Lawrence Township, Clearfield County, Pa.; Consumptive Use of up to 4.999 mgd; Approval Date: November 10, 2010.

29. Novus Operating, LLC, Pad ID: Red Tailed Hawk, ABR-201011027, Covington Township, Tioga County, Pa.; Consumptive Use of up to 2.000 mgd; Approval Date: November 12, 2010.

30. Chesapeake Appalachia, LLC, Pad ID: Lytwyn, ABR-201011028, Smithfield Township, Bradford County, Pa.; Consumptive Use of up to 7.500 mgd; Approval Date: November 12, 2010.

31. Talisman Energy USA Inc., Pad ID: 03 072 Szumski, ABR-201011029, Wells Township, Bradford County, Pa.; Consumptive Use of up to 6.000 mgd; Approval Date: November 12, 2010.

32. Cabot Oil & Gas Corporation, Pad ID: StalterD P1, ABR-201011030, Lenox Township, Susquehanna County, Pa.; Consumptive Use of up to 3.575 mgd; Approval Date: November 12, 2010.

33. Talisman Energy USA Inc., Pad ID: 05 073 Harvey, ABR-201011031, Orwell Township, Bradford County, Pa.; Consumptive Use of up to 6.000 mgd; Approval Date: November 12, 2010.

34. Talisman Energy USA Inc., Pad ID: 05 019 Cobb, ABR-201011032, Pike Township, Bradford County, Pa.; Consumptive Use of up to 6.000 mgd; Approval Date: November 12, 2010.

35. Talisman Energy USA Inc., Pad ID: 05 028 Neville V, ABR-201011033, Warren Township, Bradford County, Pa.; Consumptive Use of up to 6.000 mgd; Approval Date: November 15, 2010.

36. Chesapeake Appalachia, LLC, Pad ID: Taylor, ABR-201011034, Orwell Township, Bradford County, Pa.; Consumptive Use of up to 7.500 mgd; Approval Date: November 15, 2010.

37. Chesapeake Appalachia, LLC, Pad ID: Primrose, ABR-201011035, Standing Stone Township, Bradford County, Pa.; Consumptive Use of up to 7.500 mgd; Approval Date: November 15, 2010.

38. Chesapeake Appalachia, LLC, Pad ID: Pines, ABR-201011036, Cherry Township, Sullivan County, Pa.; Consumptive Use of up to 7.500 mgd; Approval Date: November 15, 2010.

39. Chesapeake Appalachia, LLC, Pad ID: Roeber, ABR-201011037, Wyalusing Township, Bradford County, Pa.; Consumptive Use of up to 7.500 mgd; Approval Date: November 15, 2010.

40. EnCana Oil & Gas (USA) Inc., Pad ID: Kent North, ABR-201011038, Fairmount Township, Luzerne County, Pa.; Consumptive Use of up to 1.200 mgd; Approval Date: November 15, 2010.

41. EnCana Oil & Gas (USA) Inc., Pad ID: Kent South, ABR-201011039, Fairmount Township, Luzerne County, Pa.; Consumptive Use of up to 1.200 mgd; Approval Date: November 15, 2010.

42. East Resources Management, LLC, Pad ID: Nestor 551, ABR-201011040, Delmar Township, Tioga County, Pa.; Consumptive Use of up to 4.000 mgd; Approval Date: November 15, 2010.

43. Chesapeake Appalachia, LLC, Pad ID: Epler, ABR-201011041, Albany Township, Bradford County, Pa.; Consumptive Use of up to 7.500 mgd; Approval Date: November 16, 2010.

44. Enerplus Resources (USA) Corporation, Pad ID: Snow Shoe 4, ABR-201011042, Snow Shoe Township, Centre County, Pa.; Consumptive Use of up to 4.000 mgd; Approval Date: November 16, 2010.

45. East Resources Management, LLC, Pad ID: Torpy & Van Order Inc 574, ABR-201011043, Covington Township, Tioga County, Pa.; Consumptive Use of up to 4.000 mgd; Approval Date: November 16, 2010.

46. Anadarko E&P Company LP, Pad ID: Harry W Stryker Pad A, ABR-201011044, Cogan House Township, Lycoming County, Pa.; Consumptive Use of up to 3.000 mgd; Approval Date: November 16, 2010.

47. Talisman Energy USA Inc., Pad ID: 05 014 Warner, ABR-201011045, Rush Township, Susquehanna County, Pa.; Consumptive Use of up to 6.000 mgd; Approval Date: November 16, 2010.

48. Anadarko E&P Company LP, Pad ID: William S Kieser Pad A, ABR-201011046, Cogan House Township, Lycoming County, Pa.; Consumptive Use of up to 3.000 mgd; Approval Date: November 16, 2010.

49. Anadarko E&P Company LP, Pad ID: Ann C Good Pad B, ABR-201011047, Cogan House Township, Lycoming County, Pa.; Consumptive Use of up to 3.000 mgd; Approval Date: November 16, 2010.

50. Talisman Energy USA Inc., Pad ID: 03 052 Watkins, ABR-201011048, Columbia Township, Bradford County, Pa.; Consumptive Use of up to 6.000 mgd; Approval Date: November 17, 2010.

51. Northeast Natural Energy, LLC, Pad ID: Curley, ABR-201011049, Graham Township, Clearfield County, Pa.; Consumptive Use of up to 0.020 mgd; Approval Date: November 17, 2010.

52. Talisman Energy USA Inc., Pad ID: 05 076 Brown, ABR-201011051, Orwell Township, Bradford County, Pa.; Consumptive Use of up to 6.000 mgd; Approval Date: November 19, 2010.

53. Talisman Energy USA Inc., Pad ID: 05 082 Abell Living Trust, ABR-201011052, Warren Township, Bradford County, Pa.; Consumptive Use of up to 6.000 mgd; Approval Date: November 19, 2010.

54. Chesapeake Appalachia, LLC, Pad ID: Comstock, ABR-201011053, Rome Township, Bradford County, Pa.; Consumptive Use of up to 7.500 mgd; Approval Date: November 19, 2010.

55. Range Resources—Appalachia, LLC, Pad ID: Goodwill Hunting Club Unit #4H-#9H Drilling Pad, ABR-201011054, Lewis Township, Lycoming County, Pa.; Consumptive Use of up to 5.000 mgd; Approval Date: November 19, 2010.

56. Cabot Oil & Gas Corporation, Pad ID: DerianchoF P1, ABR-201011055, Bridgewater Township, Susquehanna County, Pa.; Consumptive Use of up to 3.575 mgd; Approval Date: November 22, 2010.

57. Talisman Energy USA Inc., Pad ID: 05 180 Peck Hill Farm, ABR-201011056, Windham Township, Bradford County, Pa.; Consumptive Use of up to 6.000 mgd; Approval Date: November 22, 2010.

58. EQT Production Co., Pad ID: Phoenix R, ABR-201011057, Duncan Township, Tioga County, Pa.; Consumptive Use of up to 3.000 mgd; Approval Date: November 22, 2010.

59. East Resources Management, LLC, Pad ID: Neal 815, ABR-201011058, Chatham Township, Tioga County, Pa.; Consumptive Use of up to 4.000 mgd; Approval Date: November 22, 2010.

60. East Resources Management, LLC, Pad ID: Signor 583, ABR-201011059, Covington Township, Tioga County, Pa.; Consumptive Use of up to 4.000 mgd; Approval Date: November 23, 2010.

61. Chesapeake Appalachia, LLC, Pad ID: Penecale, ABR-201011060, North Branch Township, Wyoming County, Pa.; Consumptive Use of up to 7.500 mgd; Approval Date: November 23, 2010.

62. EQT Production Co., Pad ID: Longhorn C-1 (WDV1), ABR-201011061, Jay Township, Elk County, Pa.; Consumptive Use of up to 3.000 mgd; Approval Date: November 23, 2010.

63. J-W Operating Company, Pad ID: Pardee & Curtin Lumber Co. C-12H, ABR-201011062, Shippen Township, Cameron County, Pa.; Consumptive Use of up to 5.000 mgd; Approval Date: November 23, 2010.

64. Talisman Energy USA Inc., Pad ID: 05 058 Vough, ABR-201011063, Orwell Township, Bradford County, Pa.; Consumptive Use of up to 6.000 mgd; Approval Date: November 23, 2010.

65. Talisman Energy USA Inc., Pad ID: 05 165 Hutchinson, ABR-201011064, Warren Township, Bradford County, Pa.; Consumptive Use of up to 6.000 mgd; Approval Date: November 23, 2010.

66. Talisman Energy USA Inc., Pad ID: 05 143 Bacon, ABR-201011065, Pike Township, Bradford County, Pa.; Consumptive Use of up to 6.000 mgd; Approval Date: November 23, 2010.

67. Chesapeake Appalachia, LLC, Pad ID: Dunny, ABR-201011066, Windham Township, Wyoming County, Pa.; Consumptive Use of up to 7.500 mgd; Approval Date: November 23, 2010.

68. Range Resources—Appalachia, LLC, Pad ID: Red Bend Hunting & Fishing Club Unit #3H-#5H Drilling Pad, ABR-201011067, Cogan House Township, Lycoming County, Pa.; Consumptive Use of up to 5.000 mgd; Approval Date: November 23, 2010.

69. Chief Oil & Gas LLC, Pad ID: PMG God Drilling Pad #1, ABR-201011068, Asylum Township, Bradford County, Pa.; Consumptive Use of up to 2.000 mgd; Approval Date: November 24, 2010.

70. Anadarko E&P Company LP, Pad ID: David O Vollman Pad A, ABR-201011069, Cogan House Township, Lycoming County, Pa.; Consumptive Use of up to 3.000 mgd; Approval Date: November 24, 2010.

71. East Resources Management, LLC, Pad ID: Shaw Trust 500, ABR-201011070, Sullivan Township, Tioga County, Pa.; Consumptive Use of up to 4.000 mgd; Approval Date: November 29, 2010.

72. East Resources Management, LLC, Pad ID: Sevem 474, ABR-201011071, Charleston Township, Tioga County, Pa.; Consumptive Use of up to 4.000 mgd; Approval Date: November 29, 2010.

73. Talisman Energy USA Inc., Pad ID: 05 223 Wheaton, ABR-201011072, Windham Township, Bradford County, Pa.; Consumptive Use of up to 6.000 mgd; Approval Date: November 29, 2010.

74. Range Resources—Appalachia, LLC, Pad ID: Ogontz Fishing Club #18H-#23H Drilling Pad, ABR-201011073, Cummings Township, Lycoming County, Pa.; Consumptive Use of up to 5.000 mgd; Approval Date: November 30, 2010.

75. Range Resources—Appalachia, LLC, Pad ID: Paulhamus, Frederick Unit #5H & #6H Drilling Pad, ABR-201011074, Mifflin Township, Lycoming County, Pa.; Consumptive Use of up to 5.000 mgd; Approval Date: November 30, 2010.

76. Seneca Resources, Pad ID: Wolfinger Pad B, ABR-201011075, Shippen Township, Cameron County, Pa.; Consumptive Use of up to 4.000 mgd; Approval Date: November 30, 2010, including a partial waiver of 18 CFR Section § 806.15.

77. EOG Resources, Inc. Pad ID: Sutherland Chevrolet 1H Pad, ABR-2010011076, Lawrence Township, Clearfield County, Pa.; Consumptive Use of up to 4.999 mgd; Approval Date: November 30, 2010.

78. Range Resources—Appalachia, LLC, Pad ID: Ogontz Fishing Club #24H-#29H Drilling Pad, ABR-201011077, Cummings Township, Lycoming County, Pa.; Consumptive Use of up to 5.000 mgd; Approval Date: November 30, 2010.

79. East Resources Management, LLC, Pad ID: Propheta 288, ABR-201011078, Charleston Township, Tioga County, Pa.; Consumptive Use of up to 4.000 mgd; Approval Date: November 30, 2010.

80. Chesapeake Appalachia, LLC, Pad ID: Broughton, ABR-201012001, Morris Township, Tioga County, Pa.; Consumptive Use of up to 7.500 mgd; Approval Date: December 1, 2010.

81. Chesapeake Appalachia, LLC, Pad ID: Keir, ABR-201012002, Sheshequin Township, Bradford County, Pa.; Consumptive Use of up to 7.500 mgd; Approval Date: December 1, 2010.

82. EXCO Resources (PA), LLC, Pad ID: DCNR Tract 323 Pad-2, ABR-201012003, Pine Township, Clearfield County, Pa.; Consumptive Use of up to 8.000 mgd; Approval Date: December 1, 2010.

83. Range Resources—Appalachia, LLC, Pad ID: Fuller, Eugene Unit #1H—#3H Drilling Pad, ABR-201012004, Mifflin Township, Lycoming County, Pa.; Consumptive Use of up to 5.000 mgd; Approval Date: December 2, 2010.

84. Chesapeake Appalachia, LLC, Pad ID: Graham, ABR-201012005, Morris Township, Tioga County, Pa.; Consumptive Use of up to 7.500 mgd; Approval Date: December 2, 2010.

85. Chesapeake Appalachia, LLC, Pad ID: Mobear, ABR-201012006, Wilmot Township, Bradford County, Pa.; Consumptive Use of up to 7.500 mgd; Approval Date: December 2, 2010.

86. Chesapeake Appalachia, LLC, Pad ID: Burkmont Farms, ABR-201012007, Wilmot Township, Bradford County, Pa.; Consumptive Use of up to 7.500 mgd; Approval Date: December 2, 2010.

87. Triana Energy, LLC, Pad ID: Triana-Young Pad B, ABR-201012008, Hector Township, Potter County, Pa.; Consumptive Use of up to 7.000 mgd; Approval Date: December 3, 2010.

88. EQT Production Company, Pad ID: Phoenix S, ABR-201012009, Duncan Township, Tioga County, Pa.; Consumptive Use of up to 3.000 mgd; Approval Date: December 6, 2010.

89. Williams Production Appalachia LLC, Pad ID: Campbell Well Pad, ABR-201012010, Benton Township, Columbia County, Pa.; Consumptive Use of up to 4.000 mgd; Approval Date: December 6, 2010.

90. Chesapeake Appalachia, LLC, Pad ID: Franclaire, ABR-201012011, Braintrim Township, Wyoming County, Pa.; Consumptive Use of up to 7.500 mgd; Approval Date: December 6, 2010.

91. Talisman Energy USA Inc., Pad ID: 02 015 DCNR 587, ABR-201012012, Ward Township, Tioga County, Pa.; Consumptive Use of up to 6.000 mgd; Approval Date: December 8, 2010.

92. East Resources Management, LLC, Pad ID: Brewer 258, ABR-201012013, Jackson Township, Tioga County, Pa.; Consumptive Use of up to 4.000 mgd; Approval Date: December 9, 2010.

93. Chief Oil & Gas LLC, Pad ID: Houseknecht Drilling Pad #1, ABR-201012014, Davidson Township, Sullivan County, Pa.; Consumptive Use of up to 2.000 mgd; Approval Date: December 9, 2010.

94. Chesapeake Appalachia, LLC, Pad ID: SGL 289A, ABR-201012015, West Burlington Township, Bradford County, Pa.; Consumptive Use of up to 7.500 mgd; Approval Date: December 10, 2010.

95. East Resources Management, LLC, Pad ID: Crittenden 593, ABR-201012016, Richmond Township, Tioga County, Pa.; Consumptive Use of up to 4.000 mgd; Approval Date: December 13, 2010.

96. East Resources Management, LLC, Pad ID: Groff 720, ABR-201012017, Canton Township, Bradford County, Pa.; Consumptive Use of up to 4.000 mgd; Approval Date: December 13, 2010.

97. East Resources Management, LLC, Pad ID: Swingle 591, ABR-201012018, Richmond Township, Tioga County, Pa.; Consumptive Use of up to 4.000 mgd; Approval Date: December 13, 2010.

98. Chesapeake Appalachia, LLC, Pad ID: Gary, ABR-201012019, Rush Township, Susquehanna County, Pa.; Consumptive Use of up to 7.500 mgd; Approval Date: December 13, 2010.

99. Chesapeake Appalachia, LLC, Pad ID: Baltzley, ABR-201012020, Rush Township, Susquehanna County, Pa.; Consumptive Use of up to 7.500 mgd; Approval Date: December 13, 2010.

100. Chesapeake Appalachia, LLC, Pad ID: Roland, ABR-201012021, Wilmot Township, Bradford County, Pa.; Consumptive Use of up to 7.500 mgd; Approval Date: December 13, 2010.

101. Chesapeake Appalachia, LLC, Pad ID: Potuck Farm, ABR-201012022, Cherry Township, Sullivan County, Pa.; Consumptive Use of up to 7.500 mgd; Approval Date: December 13, 2010.

102. Chesapeake Appalachia, LLC, Pad ID: Norconk, ABR-201012023, Wilmot Township, Bradford County, Pa.; Consumptive Use of up to 7.500 mgd; Approval Date: December 13, 2010.

103. Range Resources—Appalachia, LLC, Pad ID: State Game Lands 75A #3H Drilling Pad, ABR-201012024, Cogan House Township, Lycoming County, Pa.; Consumptive Use of up to 5.000 mgd; Approval Date: December 13, 2010.

104. Chief Oil & Gas LLC, Pad ID: Niedzwiecki Drilling Pad #1, ABR-201012025, Sugarloaf Township, Columbia County, Pa.; Consumptive Use of up to 2.000 mgd; Approval Date: December 16, 2010.

105. Talisman Energy USA Inc., Pad ID: 05 128 Upham R, ABR-201012026, Pike Township, Bradford County, Pa.; Consumptive Use of up to 6.000 mgd; Approval Date: December 16, 2010.

106. EXCO Resources (PA), LLC, Pad ID: Herring Pad—9, ABR-201012027, Graham Township, Clearfield County, Pa.; Consumptive Use of up to 8.000 mgd; Approval Date: December 16, 2010.

107. Pennsylvania General Energy, Pad ID: Reed Run Norwich Pad D, ABR-201012028, Norwich Township, McKean County, Pa.; Consumptive Use of up to 3.500 mgd; Approval Date: December 16, 2010.

108. Chief Oil & Gas LLC, Pad ID: Guinter Drilling Pad #1, ABR-201012029, Mifflin Township, Lycoming County, Pa.; Consumptive Use of up to 2.000 mgd; Approval Date: December 17, 2010.

109. Chesapeake Appalachia, LLC, Pad ID: Kinnarney, ABR-201012030, Albany Township, Bradford County, Pa.; Consumptive Use of up to 7.500 mgd; Approval Date: December 20, 2010.

110. Talisman Energy USA Inc., Pad ID: 05 202 Slovak M, ABR-201012031, Windham Township, Bradford County, Pa.; Consumptive Use of up to 6.000 mgd; Approval Date: December 20, 2010.

111. East Resources Management, LLC, Pad ID: I G Coveney Revocable LVG Trust 282, ABR-201012032, Richmond Township, Tioga County, Pa.; Consumptive Use of up to 4.000 mgd; Approval Date: December 20, 2010.

112. Chief Oil & Gas LLC, Pad ID: Doebler Drilling Pad #1, ABR-201012033, Penn Township, Lycoming County, Pa.; Consumptive Use of up to 2.000 mgd; Approval Date: December 20, 2010.

113. Chief Oil & Gas LLC, Pad ID: Curtin Drilling Pad #1, ABR-201012034, Albany Township, Bradford County, Pa.; Consumptive Use of up to 2.000 mgd; Approval Date: December 20, 2010.

114. Chief Oil & Gas LLC, Pad ID: Remley Drilling Pad #1, ABR-201012035, Jackson Township, Columbia County, Pa.; Consumptive Use of up to 2.000 mgd; Approval Date: December 20, 2010.

115. Chief Oil & Gas LLC, Pad ID: Sterner Drilling Pad #1, ABR-201012036, Jackson Township, Columbia County, Pa.; Consumptive Use of up to 2.000 mgd; Approval Date: December 20, 2010.

116. Chief Oil & Gas LLC, Pad ID: Hess Drilling Pad #1, ABR-201012037, Jackson Township, Columbia County, Pa.; Consumptive Use of up to 2.000 mgd; Approval Date: December 20, 2010.

117. Chesapeake Appalachia, LLC, Pad ID: DGSM, ABR-201012038, Smithfield Township, Bradford County, Pa.; Consumptive Use of up to 7.500 mgd; Approval Date: December 20, 2010.

118. Chesapeake Appalachia, LLC, Pad ID: Hartz, ABR-201012039, Ulster Township, Bradford County, Pa.; Consumptive Use of up to 7.500 mgd; Approval Date: December 20, 2010.

119. Carrizo Marcellus, LLC, Pad ID: Baker North, ABR-201012040, Forest Lake Township, Susquehanna County, Pa.; Consumptive Use of up to 2.100 mgd; Approval Date: December 20, 2010.

120. Carrizo Marcellus, LLC, Pad ID: Sterling Farms, ABR-201012041, Noxen Township and Monroe Township, Wyoming County, Pa.; Consumptive Use of up to 2.100 mgd; Approval Date: December 20, 2010.

121. Range Resources—Appalachia, LLC, Pad ID: Ogontz Fishing Club #30H—#35H, ABR-201012043, Cummings Township, Lycoming County, Pa.; Consumptive Use of up to 5.000 mgd; Approval Date: December 21, 2010.

122. East Resources Management, LLC, Pad ID: Vanvliet 614, ABR-201012044, Delmar Township, Tioga County, Pa.; Consumptive Use of up to 4.000 mgd; Approval Date: December 21, 2010.

123. Novus Operating, LLC, Pad ID: Merlin, ABR-201012045, Sullivan Township, Tioga County, Pa.; Consumptive Use of up to 2.000 mgd; Approval Date: December 22, 2010.

124. Talisman Energy USA Inc., Pad ID: 05 167 Hutchinson, ABR-201012046, Warren Township, Bradford County, Pa.; Consumptive Use of up to 6.000 mgd; Approval Date: December 23, 2010.

125. Range Resources—Appalachia, LLC, Pad ID: Rupert, Elton Unit #1H Drilling Pad, ABR-201012047, Penn Township, Lycoming County, Pa.; Consumptive Use of up to 5.000 mgd; Approval Date: December 23, 2010.

126. East Resources Management, LLC, Pad ID: Wilson 283, ABR-201012048, Charleston Township, Tioga County, Pa.; Consumptive Use of up to 4.000 mgd; Approval Date: December 23, 2010.

127. East Resources Management, LLC, Pad ID: Buckwalter 429, ABR-201012049, Delmar Township, Tioga County, Pa.; Consumptive Use of up to 4.000 mgd; Approval Date: December 23, 2010.

128. Range Resources—Appalachia, LLC, Pad ID: Winner Unit #2H—#5H Drilling Pad, ABR-201012050, Gallagher Township, Clinton County, Pa.; Consumptive Use of up to 5.000 mgd; Approval Date: December 27, 2010.

129. East Resources Management, LLC, Pad ID: Sherman 563, ABR-201012051, Shippen Township, Tioga County, Pa.; Consumptive Use of up to 4.000 mgd; Approval Date: December 27, 2010.

130. East Resources Management, LLC, Pad ID: Hitesman 580, ABR-201012052, Covington Township, Tioga County, Pa.; Consumptive Use of up to 4.000 mgd; Approval Date: December 27, 2010.

131. East Resources Management, LLC, Pad ID: Neal 375, ABR-201012053, Union Township, Tioga County, Pa.; Consumptive Use of up to 4.000 mgd; Approval Date: December 28, 2010.

132. East Resources Management, LLC, Pad ID: Parent 749, ABR-201012054, Canton Township, Bradford County, Pa.; Consumptive Use of up to 4.000 mgd; Approval Date: December 28, 2010.

133. East Resources Management, LLC, Pad ID: McConnell 471, ABR-201012055, Charleston Township, Tioga County, Pa.; Consumptive Use of up to 4.000 mgd; Approval Date: December 28, 2010.

134. East Resources Management, LLC, Pad ID: Yourgalite 1119, ABR-201012056, Farmington Township, Tioga County, Pa.; Consumptive Use of up to 4.000 mgd; Approval Date: December 28, 2010.

135. East Resources Management, LLC, Pad ID: Marshall Brothers Inc 731, ABR-201012057, Jackson Township, Lycoming County, Pa.; Consumptive Use of up to 4.000 mgd, Approval Date: December 29, 2010.

Rescinded Approvals By Rule Issued Under 18 CFR 806.22(f)

1. Chesapeake Appalachia, LLC, Pad ID: Boyles, ABR-201008095, Elkland Township, Sullivan County, Pa.; Consumptive Use of up to 7.500 mgd; Rescinded Date: December 16, 2010.

2. Chesapeake Appalachia, LLC, Pad ID: Burkett, ABR-20100543, Smithfield Township, Bradford County, Pa.; Consumptive Use of up to 7.500 mgd; Rescinded Date: December 16, 2010.

3. Chesapeake Appalachia, LLC, Pad ID: Lee, ABR-201008012, Asylum Township, Bradford County, Pa.; Consumptive Use of up to 7.500 mgd; Rescinded Date: December 16, 2010.

4. Chesapeake Appalachia, LLC, Pad ID: McCarty, ABR-201007018, Fox Township, Sullivan County, Pa.; Consumptive Use of up to 7.500 mgd; Rescinded Date: December 16, 2010.

5. Chesapeake Appalachia, LLC, Pad ID: Oshea, ABR-20100660, Windham Township, Bradford County, Pa.; Consumptive Use of up to 7.500 mgd; Rescinded Date: December 16, 2010.

6. Chesapeake Appalachia, LLC, Pad ID: Schlick, ABR-201007077, Rush Township, Susquehanna County, Pa.; Consumptive Use of up to 7.500 mgd; Rescinded Date: December 16, 2010.

7. Chief Oil & Gas, LLC, Pad ID: M & L Beinlich North Drilling Pad #1, ABR-201007059, Overton Township, Bradford County, Pa.; Consumptive Use of up to 2.000 mgd; Rescinded Date: December 16, 2010.

8. Chief Oil & Gas, LLC, Pad ID: Baumunk Drilling Pad #1, ABR-20100675, Elkland Township, Sullivan County, Pa.; Consumptive Use of up to 2.000 mgd; Rescinded Date: December 16, 2010.

9. Citrus Energy, Pad ID: Martin #1V, ABR-20091202, Sugarloaf Township, Columbia County, Pa.; Consumptive Use of up 5.000 mgd; Rescinded Date: December 16, 2010.

10. Citrus Energy, Pad ID: Farver #1V, ABR-20091228, Benton Township, Columbia County, Pa.; Consumptive Use of up 5.000 mgd; Rescinded Date: December 16, 2010.

11. Epsilon Energy USA Inc., Pad ID: J. Bowen, ABR-20100356, Auburn Township, Susquehanna County, Pa.; Consumptive Use of up 5.000 mgd; Rescinded Date: December 16, 2010.

12. Epsilon Energy USA Inc., Pad ID: L Hardic, ABR-20100357, Auburn Township, Susquehanna County, Pa.; Consumptive Use of up 5.000 mgd; Rescinded Date: December 16, 2010.

13. Epsilon Energy USA Inc., Pad ID: B Poulsen, ABR-20100358, Auburn Township, Susquehanna County, Pa.; Consumptive Use of up 5.000 mgd; Rescinded Date: December 16, 2010.

14. Epsilon Energy USA Inc., Pad ID: La Rue, ABR-20100359, Rush Township, Susquehanna County, Pa.; Consumptive Use of up 5.000 mgd; Rescinded Date: December 16, 2010.

15. Epsilon Energy USA Inc., Pad ID: MJ Barlow, ABR-20100360, Rush Township, Susquehanna County, Pa.; Consumptive Use of up 5.000 mgd; Rescinded Date: December 16, 2010.

16. EnerVest Operating, LLC, Pad ID: Harris #1, ABR-20090709, Smithfield Township, Bradford County, Pa.; Consumptive Use of up 2.000 mgd; Rescinded Date: December 16, 2010.

17. EnerVest Operating, LLC, Pad ID: Wood #1, ABR-20090708, Athens Township, Bradford County, Pa.; Consumptive Use of up 2.000 mgd; Rescinded Date: December 16, 2010.

18. Penn Virginia Oil & Gas Corp., Pad ID: Kibbe #1, ABR-20100346, Harrison Township, Potter County, Pa.; Consumptive Use of up 4.000 mgd; Rescinded Date: December 16, 2010

Authority: Pub. L. 91-575, 84 Stat. 1509 et seq., 18 CFR parts 806, 807, and 808.

Dated: April 4, 2011.
Stephanie L. Richardson,
Secretary to the Commission.

[FR Doc. 2011-8961 Filed 4-13-11; 8:45 am]

BILLING CODE 7040-01-P